DEPARTMENT OF AGRICULTURE

Animal and Plant Health Inspection Service

7 CFR Part 301

[Docket No. APHIS-2009-0036]

Karnal Bunt; Regulated Areas

Correction

In rule document E9-13051 beginning on page 26774 in the issue of Thursday, June 4, 2009, make the following correction:

§ 301.89-3 [Corrected]

On page 26776, in §301.890-3(g), in the third column, in the tenth line from the bottom of the page, “-1114.687198” should read “-114.687198”

[FR Doc. Z9-13051 Filed 6-9-09; 8:45 am]

BILLING CODE 1505-01-D